DEPARTMENT OF AGRICULTURE

Food Safety and Inspection Service

[Docket No. FSIS-2012-0042]

Codex Alimentarius Commission: Meeting of the Codex Committee on Food Hygiene

AGENCY: Office of the Under Secretary for Food Safety, USDA.

ACTION: Notice of public meeting and request for comments.

SUMMARY: The Office of the Under Secretary for Food Safety, U.S. Department of Agriculture (USDA), and the Food and Drug Administration (FDA), U.S. Department of Health and Human Services (HHS), are sponsoring a public meeting on October 23, 2012. The objective of the public meeting is to provide information, receive public comments on agenda items, and draft United States (U.S.) positions that will be discussed at the 44th Session of the Codex Committee on Food Hygiene (CCFH) of the Codex Alimentarius Commission (Codex), which will be held in New Orleans, Louisiana, from November 12-16, 2012. The Under Secretary for Food Safety and FDA recognize the importance of providing interested parties the opportunity to obtain background information on the 44th Session of the CCFH and to address items on the agenda.

DATES: The public meeting is scheduled for October 23, 2012, from 1 p.m. to 4 p.m.

ADDRESSES: The public meeting will be held in the Jamie L. Whitten Building, USDA, 1400 Independence Avenue SW., Room 107-A, Washington, DC 20250.

Documents related to the 44th Session of the CCFH will be accessible via the World Wide Web at the following address: http://www.codexalimentarius.org.

Jenny Scott, U.S. Delegate to the CCFH, invites U.S. interested parties to submit their comments electronically to the following email address: Jenny.Scott@fda.hhs.gov.

Call-In Number: If you wish to participate in the public meeting for the 44th session of the CCFH by conference call, please use the call-in number and participant code listed below. Call-in Number: 1-888-858-2144. Participant Code: 6208658.

For Further Information About the 44th Session of the CCFH Contact: Jenny Scott, Senior Advisor, Office of Food Safety, Center for Food Safety and Applied Nutrition, FDA, 5100 Paint Branch Parkway, HFS-300, Room 3B-014, College Park, MD 20740-3835, Telephone: (240) 402-2166, Fax: (202) 436-2632, Email: Jenny.Scott@fda.hhs.gov.

For Further Information About the Public Meeting Contact: Barbara McNiff, U.S. Codex Office, 1400 Independence Avenue SW., Room 4861, Washington, DC 20250, Telephone: (202) 690-4719, Fax: (202) 720-3157, Email: Barbara.McNiff@fsis.usda.gov.

SUPPLEMENTARY INFORMATION:

Background

Codex was established in 1963 by two United Nations organizations, the Food and Agriculture Organization (FAO) and the World Health Organization (WHO). Through adoption of food standards, codes of practice, and other guidelines developed by its committees, and by promoting their adoption and implementation by governments, Codex seeks to protect the health of consumers and ensure that fair practices are used in the food trade.

The CCFH is responsible for:

(a) Drafting basic provisions on food hygiene applicable to all food;

(b) Considering, amending if necessary, and endorsing provisions on hygiene prepared by Codex commodity committees and contained in Codex commodity standards;

(c) Considering, amending if necessary, and endorsing provisions on hygiene prepared by Codex commodity committees and contained in Codex codes of practice unless, in specific cases, Codex has decided otherwise;

(d) Drafting provisions on hygiene applicable to specific food items or food groups, whether coming within the terms of reference of a Codex commodity committee or not;

(e) Considering specific hygiene problems assigned to it by Codex;

(f) Suggesting and prioritizing areas where there is a need for microbiological risk assessment at the international level and to develop questions to be addressed by the risk assessors; and

(g) Considering microbiological risk management matters in relation to food hygiene, including food irradiation, and in relation to the risk assessment of FAO/WHO.

The CCFH is hosted by the United States.

Issues To Be Discussed at the Public Meeting

The following items on the agenda for the 44th Session of the CCFH will be discussed during the public meeting:

• Matters Referred by Codex and/or Other Codex Committees and Task Forces to the Food Hygiene Committee

• Draft Regional Code of Practice for Street-Vended Foods (Near East)

• Matters Arising from the Work of FAO, WHO and Other International Intergovernmental Organizations

(a) Progress Report on the Joint FAO/WHO Expert Meetings on Microbiological Risk Assessment (JEMRA) and Related Matters

(b) Information from the World Organisation for Animal Health (OIE)

• Proposed Draft Revision of Principles for the Establishment and Application of Microbiological Criteria for Foods at Step 4

• Practical Examples on the Application and Establishment of Microbiological Criteria

• Proposed Draft Guidelines for Control of Specific Zoonotic Parasites in Meat: Trichinella spiralis and Cysticercus bovis at Step 4

• Proposed Draft Revision of the Code of Hygienic Practice for Spices and Dried Aromatic Plants at Step 4

• Proposed Draft Annex on Berries to the Code of Hygienic Practice for Fresh Fruits and Vegetables at Step 4

• Discussion Paper on a Code of Hygienic Practice for Low Moisture Food

• Discussion Paper on New Work and Periodic Review/Revision of Codes of Hygienic Practice

• CCFH Work Priorities

Each issue listed will be fully described in documents distributed, or to be distributed, by the Codex Secretariat prior to the CCFH meeting. Members of the public may access these documents (see ADDRESSES).

Public Meeting

At the October 23, 2012, public meeting, draft U.S. positions on the agenda items will be described and discussed, and attendees will have the opportunity to pose questions and offer comments. Written comments may be offered at the meeting or sent to the U.S. Delegate for the 44th Session of the CCFH, Jenny Scott (see ADDRESSES). Written comments should state that they relate to activities of the 44th Session of the CCFH.

Additional Public Notification

FSIS will announce this notice online through the FSIS Web page located at http://www.fsis.usda.gov/regulations_&_policies/Federal_Register_Notices/index.asp.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information.

This service is available at http://www.fsis.usda.gov/News_&_Events/Email_Subscription/. Options range from recalls to export information to regulations, directives, and notices. Customers can add or delete subscriptions themselves, and have the option to password protect their accounts.

USDA Nondiscrimination Statement

USDA prohibits discrimination in all its programs and activities on the basis of race, color, national origin, gender, religion, age, disability, political beliefs, sexual orientation, and marital or family status. (Not all prohibited bases apply to all programs.) Persons with disabilities who require alternative means for communication of program information (Braille, large print, or audiotape.) should contact USDA's Target Center at 202-720-2600 (voice and TTY).

To file a written complaint of discrimination, write USDA, Office of the Assistant Secretary for Civil Rights, 1400 Independence Avenue SW., Washington, DC 20250-9410 or call 202-720-5964 (voice and TTY). USDA is an equal opportunity provider and employer.

Done at Washington, DC, on: October 1, 2012.
Karen Stuck,
U.S. Manager for Codex Alimentarius.

[FR Doc. 2012-25001 Filed 10-10-12; 8:45 am]

BILLING CODE 3410-DM-P